DEPARTMENT OF COMMERCE

International Trade Administration

[C-489-823]

Welded Line Pipe From the Republic of Turkey: Preliminary Results of Countervailing Duty Administrative Review; 2015

AGENCY: Enforcement and Compliance, International Trade Administration, Department of Commerce.

SUMMARY: The Department of Commerce (Commerce) is conducting an administrative review of the countervailing duty (CVD) order on welded line pipe from the Republic of Turkey (Turkey) for the period of review March 20, 2015, through December 31, 2015. Interested parties are invited to comment on these preliminary results.

DATES: Applicable January 10, 2018.

FOR FURTHER INFORMATION CONTACT: E. Whitley Herndon, AD/CVD Operations, Office II, Enforcement and Compliance, International Trade Administration, U.S. Department of Commerce, 1401 Constitution Avenue NW, Washington, DC 20230; telephone: 202-482-6274.

SUPPLEMENTARY INFORMATION:

Background

On February 13, 2017, Commerce published a notice of initiation of an administrative review of the countervailing duty order on pipe and tube from Turkey.¹ On August 22, 2017, Commerce extended the deadline for the preliminary results to January 2, 2018.² For a complete description of the events that followed the initiation of this review, see the Preliminary Decision Memorandum.³ A list of topics discussed in the Preliminary Decision Memorandum is included as an Appendix to this notice. The Preliminary Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Preliminary Decision Memorandum can be accessed directly at http://enforcement.trade.gov/frn/. The signed and electronic versions of the Preliminary Decision Memorandum are identical in content.

¹ See Initiation of Antidumping and Countervailing Duty Administrative Reviews, 82 FR 10457 (February 13, 2017).

² See Memorandum, “Welded Line Pipe from the Republic of Turkey: Extension of Deadline for Preliminary Results of Countervailing Duty Administrative Review,” dated August 22, 2017.

³ See Memorandum, “Decision Memorandum for the Preliminary Results of Countervailing Duty Administrative Review: Welded Line Pipe from Turkey; 2015,” dated concurrently with, and hereby adopted by, this notice (Preliminary Decision Memorandum).

Scope of the Order

The merchandise covered by the order is welded line pipe, which is carbon and alloy steel pipe of a kind used for oil or gas pipelines, not more than 24 inches in nominal outside diameter. For a complete description of the scope of the order, see the Preliminary Decision Memorandum.

Methodology

Commerce is conducting this review in accordance with section 751(a)(1)(A) of the Tariff Act of 1930, as amended (the Act). For each of the subsidy programs found countervailable, we preliminarily determine that there is a subsidy, i.e., a government financial contribution that gives rise to a benefit to the recipient, and that the subsidy is specific.⁴ For a full description of the methodology underlying our conclusions, see the accompanying Preliminary Decision Memorandum.

⁴ See sections 771(5)(B) and (D) of the Act regarding financial contribution; section 771(5)(E) of the Act regarding benefit; and, section 771(5A) of the Act regarding specificity.

Preliminary Results of Review

Commerce determines that the following preliminary net subsidy rates exist for the period March 20, 2015, through December 31, 2015:

Company | Net subsidy rate (percent)
Borusan Istikbal Ticaret and Borusan Mannesmann Boru Sanayi ve Ticaret A.S.5 | 0.78 ad valorem.

Assessment Rates

⁵ For the Borusan Companies, we initiated on the following: Borusan Istikbal Ticaret (Istikbal) and Borusan Mannesmann Boru Sanayi ve Ticaret A.S. (BMB). As explained in the Preliminary Decision Memorandum, we found Istikbal and BMB to be cross-owned under Borusan Holding, A.S. For these preliminary results, we find all three companies to be cross-owned, though only BMB received countervailable subsidies in this review period.

In accordance with 19 CFR 351.221(b)(4)(i), we assigned a subsidy rate for each producer/exporter subject to this administrative review. Upon issuance of the final results, Commerce shall determine, and U.S. Customs and Border Protection (CBP) shall assess, countervailing duties on all appropriate entries covered by this review. We intend to issue instructions to CBP 15 days after publication of the final results of this review.

Cash Deposit Rates

Pursuant to section 751(a)(2)(C) of the Act, Commerce also intends to instruct CBP to collect cash deposits of estimated countervailing duties in the amounts indicated for the company listed above with regard to shipments of subject merchandise entered, or withdrawn from warehouse, for consumption on or after the date of publication of the final results of this review. For all non-reviewed firms, we will instruct CBP to continue to collect cash deposits of estimated countervailing duties at the most recent company-specific or all-others rate applicable to the company, as appropriate. These cash deposit requirements, when imposed, shall remain in effect until further notice.

Disclosure and Public Comment

Commerce will disclose to parties to this proceeding the calculations performed in reaching the preliminary results within five days of the date of publication of these preliminary results.⁶ Interested parties may submit written comments (case briefs) within 30 days of publication of the preliminary results and rebuttal comments (rebuttal briefs) within five days after the time limit for filing case briefs.⁷ Pursuant to 19 CFR 351.309(d)(2), rebuttal briefs must be limited to issues raised in the case briefs. Parties who submit arguments are requested to submit with the argument: (1) A statement of the issue; (2) a brief summary of the argument; and (3) a table of authorities.⁸ All briefs must be filed electronically using ACCESS.

⁶ See 19 CFR 351.224(b).

⁷ See 19 CFR 351.309(c)(1)(ii) and 351.309(d)(1).

⁸ See 19 CFR 351.309(c)(2) and 351.309(d)(2).

Interested parties who wish to request a hearing must do so within 30 days of publication of these preliminary results by submitting a written request to the Assistant Secretary for Enforcement and Compliance using Enforcement and Compliance's ACCESS system.⁹ Requests should contain the party's name, address, and telephone number, the number of participants, and a list of the issues to be discussed. If a request for a hearing is made, we will inform parties of the scheduled date for the hearing which will be held at the U.S. Department of Commerce, 1401 Constitution Avenue NW, Washington, DC 20230, at a time and location to be determined.¹⁰ Issues addressed at the hearing will be limited to those raised in the briefs.¹¹

⁹ See 19 CFR 351.310(c).

¹⁰ See 19 CFR 351.310.

¹¹ See 19 CFR 351.310(c).

Unless the deadline is extended pursuant to section 751(a)(3)(A) of the Act, Commerce intends to issue the final results of this administrative review, including the results of our analysis of the issues raised by the parties in their comments, within 120 days after issuance of these preliminary results.

This administrative review and notice are in accordance with sections 751(a)(1) and 777(i)(1) of the Act and 19 CFR 351.213.

Dated: January 2, 2018.
Christian Marsh,
Deputy Assistant Secretary for Enforcement and Compliance.

Appendix

I. Summary

II. Background

III. Scope of the Order

IV. Subsidies Valuation Information

A. Allocation Period

B. Attribution of Subsidies

C. Benchmark Interest Rates

V. Analysis of Programs Preliminarily Determined To Be Countervailable

A. Deduction From Taxable Income for Export Revenue

B. Short-Term Pre-Shipment Rediscount Program

C. Provision of Hot-Rolled Steel for Less Than Adequate Remuneration

D. Inward Processing Certificate Exemption

E. Investment Encouragement Program: Customs Duty and Value Added Tax Exemptions

VI. Programs Preliminarily Determined to Not Be Used

VII. Recommendation

[FR Doc. 2018-00262 Filed 1-9-18; 8:45 am]

BILLING CODE 3510-DS-P